DEPARTMENT OF COMMERCE

National Institute of Standards and Technology

[Docket No.: 060705187-6187-01]

National Earthquake Hazards Reduction Program; Advisory Committee on Earthquake Hazards Reduction

AGENCY: National Institute of Standards and Technology, Department of Commerce.

ACTION: Request for nominations of members to serve on the Advisory Committee on Earthquake Hazards Reduction.

SUMMARY: NIST invites and requests nomination of individuals for appointment to the Advisory Committee on Earthquake Hazards Reduction (Committee). This is a new Federal Advisory Committee established pursuant to the National Earthquake Hazards Reduction Program Reauthorization Act. NIST will consider nominations received in response to this notice for appointment to the Committee.

DATES: Please submit nominations on or before August 24, 2006.

ADDRESSES: Please submit nominations to Tina Faecke, Administrative Officer, National Earthquake Hazards Reduction Program, National Institute of Standards and Technology, 100 Bureau Drive, Mail Stop 8630, Gaithersburg, MD 20899-8630. Nominations may also be submitted via fax to 301-975-5433 or e-mail at tina.faecke@nist.gov.

Additional information regarding the Committee, including its charter and executive summary may be found on its electronic home page at: http://www.nehrp.gov.

FOR FURTHER INFORMATION CONTACT: Dr. Jack Hayes, Director, National Earthquake Hazards Reduction Program, National Institute of Standards and Technology, 100 Bureau Drive, Mail Stop 8601, Gaithersburg, MD 20899-8601, telephone 301-975-5640, fax 301-869-6275; or via e-mail at jack.hayes@nist.gov.

SUPPLEMENTARY INFORMATION:

Committee Information

The Committee was established by the Department of Commerce in accordance with the National Earthquake Hazards Reduction Program Reauthorization Act, Public Law 108-360 and the Federal Advisory Committee Act (5 U.S.C. app. 2) on June 27, 2006.

Objectives and Duties

1. The Committee will assess trends and developments in the science and engineering of earthquake hazards reduction, effectiveness of the Program in carrying out the activities under section 103(a)(2) of the Act, the need to revise the Program, the management, coordination, implementation, and activities of the Program.

2. The Committee functions solely as an advisory body, in accordance with the provisions of the Federal Advisory Committee Act.

3. The Committee shall report to the Director of NIST.

4. Not later than one year after the first meeting of the Committee, and at least once every two years thereafter, the Committee shall report to the Director of NIST, on its findings of the assessments and its recommendations for ways to improve the Program. In developing recommendations, the Committee shall consider the recommendations of the United States Geological Survey Scientific Earthquake Studies Advisory Committee.

Membership

1. The Committee will consist of not fewer than 11 members, nor more than 15 members, who reflect a wide diversity of technical disciplines, competencies, and communities involved in earthquake hazards reduction. Members shall be selected on the basis of established records of distinguished service in their professional community and their knowledge of issues affecting the National Earthquake Hazards Reduction Program.

2. The Director of NIST shall appoint the members of the Committee, and they will be selected on a clear, standardized basis, in accordance with applicable Department of Commerce guidance.

3. No committee member may be an “employee” as defined in subparagraphs (A) through (F) of section 7342(a)(1) of title 5 of the United States Code.

Miscellaneous

1. Members of the Committee will not be paid for their services, but will, upon request, be allowed travel and per diem expenses in accordance with 5 U.S.C. 5701 et seq., while attending meetings of the Committee or of its subcommittees, or while otherwise performing duties at the request of the chairperson, while away from their homes or a regular place of business.

2. Members of the Committee shall serve as Special Government Employees and are required to file an annual Executive Branch Confidential Financial Disclosure Report.

3. The Committee shall meet at least once per year. Additional meetings may be called whenever the Director of NIST requests a meeting.

Nomination Information

1. Nominations are sought from industry and other communities having an interest in the National Earthquake Hazards Reduction Program, such as, but not limited to, research and academic institutions, industry standards development organizations, state and local government bodies, and financial communities, who are qualified to provide advice on earthquake hazards reduction and represent all related scientific, architectural, and engineering disciplines

2. Nominees should have established records of distinguished service. The field of expertise that the candidate represents should be specified in the nomination letter. Nominations for a particular field should come from organizations or individuals within that field. A summary of the candidate's qualifications should be included with the nomination, including (where applicable) current or former service on federal advisory boards and federal employment. In addition, each nomination letter should state that the person agrees to the nomination, acknowledges the responsibilities of serving on the Committee, and will actively participate in good faith in the tasks of the Committee.

3. The Department of Commerce is committed to equal opportunity in the workplace and seeks a broad-based and diverse Committee membership.

Dated: July 18, 2006.
James E. Hill,
Acting Deputy Director.

[FR Doc. E6-11830 Filed 7-24-06; 8:45 am]

BILLING CODE 3510-13-P